DEPARTMENT OF THE TREASURY

Submission for OMB Review; Comment Request

January 2, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 10, 2003 to be assured of consideration.

Financial Crimes Enforcement Network (FinCEN)

OMB Number: 1506-0020.

Form Number: None.

Type of Review: Extension.

Title: Anti-Money Laundering Programs for Money Services, Businesses, Mutual Funds, and Operators of Credit Card Systems.

Description: This information collection, which applies to money services businesses, mutual funds, and operators of credit card systems, will help to ensure that such entities are not used to facilitate money laundering or terrorist financing, and will enable federal agencies to examine such entities for compliance with the anti-money laundering program requirements.

Respondents: Business or other for-profit.

Estimated Number of Recordkeepers: 203,006.

Estimated Burden Hours Per Recordkeeper: 1 hour.

Estimated Total Reporting/Recordkeeping Burden: 20,000 hours.

Clearance Officer: Steve Rudzinski, (703) 905-3845, Financial Crimes Enforcement Network, 2070 Chain Bridge Road, Suite 200, Vienna, VA 22182.

OMB Reviewer: Joseph F. Lackey, Jr., (202) 395-7316, Office of Management and Budget, Room 10235, New Executive Office Building, Washington, DC 20503.

Lois K. Holland,
Departmental Reports, Management Officer.

[FR Doc. 03-560 Filed 1-10-03; 8:45 am]

BILLING CODE 4810-02-P